DEPARTMENT OF AGRICULTURE

National Institute of Food and Agriculture

Notice of Request for an Information Collection; Generic Clearance for the Collection of Qualitative Feedback on Agency Service Delivery

AGENCY: National Institute of Food and Agriculture.

ACTION: Notice and request for comments.

SUMMARY: The National Institute of Food and Agriculture, as part of its continuing effort to reduce paperwork and respondent burden, invites the general public to take this opportunity to comment on the “Generic Clearance for the Collection of Qualitative Feedback on Agency Service Delivery” for approval under the Paperwork Reduction Act (PRA). This collection was developed to create a vehicle for obtaining stakeholder feedback. This notice announces our intent to submit this collection to Office of Management and Budget for approval and solicits comments on specific aspects for the proposed information collection.

DATES: Consideration will be given to all comments received by December 5, 2016. Comments received after that date will be considered to the extent practicable.

ADDRESSES: Written comments may be submitted by any of the following methods: Email: rmartin@nifa.usda.gov; Fax: 202-720-0857; Mail: Office of Information Technology (OIT), NIFA, USDA, STOP 2216, 1400 Independence Avenue SW., Washington, DC 20250-2216.

FOR FURTHER INFORMATION CONTACT: Robert Martin, Records Officer; email: rmartin@nifa.usda.gov.

SUPPLEMENTARY INFORMATION: Title: Generic Clearance for the Collection of Qualitative Feedback on Agency Service Delivery.

Abstract: The National Institute of Food and Agriculture (NIFA), U.S. Department of Agriculture, oversees roughly $1.5 billion to fund research, education, and extension efforts in a wide range of scientific fields related to agricultural and behavioral sciences. NIFA achieves its mission through partnerships with Land-Grant Universities (LGU), non-profit organizations, private sector firms, and other government agencies. These partners, through research, education, and extension activities, help NIFA and USDA address highly complex and multidimensional challenges in food and agriculture. To ensure that our programs address the Nation's food and agricultural priorities and our processes minimize burden without jeopardizing accountability, NIFA seeks OMB approval of a generic clearance to collect qualitative feedback on our service delivery. By qualitative feedback, we mean information that provides insights on perceptions and opinions, but are not statistical surveys or quantitative results that can be generalized to the population of study.

This collection of information is necessary to enable NIFA, herein “the Agency,” to garner feedback from customers, stakeholders, and partners (herein “stakeholders”) in an efficient and timely manner, and in accordance with our commitment to providing the highest quality service delivery. The information collected from our stakeholders will help NIFA identify emerging and significant priorities in food and agriculture; refine NIFA's business processes; and promote inclusiveness and diversity to ensure that NIFA drives outcomes that meets the needs of all Americans.

Improving agency programs requires ongoing assessment of NIFA's programs and processes, by which we mean systematic review of the operation of a program compared to a set of explicit or implicit standards. NIFA will collect, analyze, and interpret information gathered through this generic clearance to identify strengths and weaknesses of current services and make improvements based on stakeholder feedback. If this information is not collected, NIFA's ability to respond to stakeholders' needs and continuously improve programs and services will be greatly diminished.

The solicitation of feedback will target areas in: Strategic, portfolio, and programmatic planning; competitive and non-competitive awards processes; post-award management; information technology systems and Web sites; and, grants management training. Responses will inform efforts to improve or maintain the quality of service offered to the public.

The Agency will only submit a collection for approval under this generic clearance if it meets the following conditions:

• The collections are voluntary;

• The collections are low-burden for respondents (based on considerations of total burden hours, total number of respondents, or burden-hours per respondent) and are low-cost for both the respondents and the Federal Government;

• The collections are non-controversial and do not raise issues of concern to other Federal agencies;

• Any collection is targeted to the solicitation of opinions from respondents who have experience with the program or may have experience with the program in the near future;

• Information gathered will be used only internally for general service improvement and program management purposes and is not intended for release outside of the agency;

• Information gathered will not be used for the purpose of substantially informing influential policy decisions; and

• Information gathered will yield qualitative information; the collections will not be designed or expected to yield statistically reliable results or used as though the results are generalizable to the population of study.

Feedback collected under this generic clearance provides useful information, but it does not yield data that can be generalized to the overall population. This type of generic clearance for qualitative information will not be used for quantitative information collections that are designed to yield reliably actionable results, such as monitoring trends over time or documenting program performance. Such data uses require more rigorous designs that address: the target population to which generalizations will be made, the sampling frame, the sample design (including stratification and clustering), the precision requirements or power calculations that justify the proposed sample size, the expected response rate, methods for assessing potential non-response bias, the protocols for data collection, and any testing procedures that were or will be undertaken prior to fielding the study. Depending on the degree of influence the results are likely to have, such collections may still be eligible for submission for other generic mechanisms that are designed to yield quantitative results.

As a general matter, information collections will not result in any new system of records containing privacy information and will not ask questions of a sensitive nature, such as sexual behavior and attitudes, religious beliefs, and other matters that are commonly considered private.

Current Actions: Request for approval for a new collection of information.

Type of Review: New.

Affected Public: Individuals and Households, Businesses and Organizations, State, Local or Tribal Government.

Estimated Number of Respondents: 11,250.

Below we provide projected average estimates for the next three years:

Average Expected Annual Number of activities: 15.

Average number of Respondents per Activity: 750.

Annual responses: 11,250.

Frequency of Response: Once per request.

Average minutes per response: 30.

Burden hours: 5,625.

Request for Comments: Comments submitted in response to this notice will be summarized and/or included in the request for OMB approval. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; develop, acquire, install and utilize technology and systems for the purpose of collecting, validating and verifying information, processing and maintaining information, and disclosing and providing information; train personnel and to be able to respond to a collection of information, to search data sources, to complete and review the collection of information; and to transmit or otherwise disclose the information.

All written comments will be available for public inspection on Regulations.gov.

An agency may not conduct or sponsor, and a person is not required to respond to, a collection of information unless it displays a currently valid Office of Management and Budget control number.

Done at Washington, DC, this 23rd day of September, 2016.
Catherine E. Woteki,
Under Secretary, Research, Education, and Economics.

[FR Doc. 2016-23956 Filed 10-3-16; 8:45 am]

BILLING CODE 3410-22-P